DEPARTMENT OF COMMERCE

National Oceanic and Atmospheric Administration

RIN 0648-XU70

Marine Mammals and Endangered Species; File Nos. 13544 and 14586

AGENCY: National Marine Fisheries Service (NMFS), National Oceanic and Atmospheric Administration (NOAA), Commerce.

ACTION: Notice; receipt of application for modification and application

SUMMARY: Notice is hereby given that Jeffrey Schmid, Ph.D, Conservancy of Southwest Florida, Naples, FL 34102, has requested a modification to scientific research Permit No. 13544 and Jeanette Wyneken, Florida Atlantic University, Boca Raton, FL 33431, has applied in due form to conduct scientific research (File No. 14586).

DATES: Written, telefaxed, or e-mail comments must be received on or before April 2, 2010.

ADDRESSES: The application documents are available for review by selecting “Records Open for Public Comment” from the Features box on the Applications and Permits for Protected Species (APPS) home page, https://apps.nmfs.noaa.gov/, and then selecting File No. 13544-01 or 14586 from the list of available applications. These documents are also available upon written request or by appointment in the following offices:

Permits, Conservation and Education Division, Office of Protected Resources, NMFS, 1315 East-West Highway, Room 13705, Silver Spring, MD 20910; phone (301) 713-2289; fax (301) 713-0376; and

Southeast Region, NMFS, 263 13th Ave South, St. Petersburg, FL 33701; phone (727) 824-5312; fax (727) 824-5309.

Written comments or requests for a public hearing on these requests should be submitted to the Chief, Permits, Conservation and Education Division, F/PR1, Office of Protected Resources, NMFS, 1315 East-West Highway, Room 13705, Silver Spring, MD 20910. Those individuals requesting a hearing should set forth the specific reasons why a hearing on the particular request would be appropriate.

Comments may also be submitted by facsimile at (301) 713-0376, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 13544-01 or File No. 14586.

FOR FURTHER INFORMATION CONTACT: Kate Swails or Amy Hapeman (File No. 13544-01); Kate Swails or Amy Sloan (File No. 14586) at (301) 713-2289.

SUPPLEMENTARY INFORMATION: The modification to Permit No. 13544, issued on April 17, 2009 (74 FR 18354) is requested under the authority of the Endangered Species Act of 1973, as amended (16 U.S.C. 1531 et seq.) and the regulations governing the taking, importing, and exporting of endangered and threatened species (50 CFR 222-226).Permit No. 13544 authorizes the permit holder to characterize the aggregations of sea turtles in the nearshore waters of Lee County in southwest Florida. The permit holder may annually capture 130 Kemp's ridley (Lepidochelys kempii), 50 loggerhead (Caretta caretta), 20 green (Chelonia mydas), and five hawksbill (Eretmochelys imbricata) turtles. Turtles are collected using a large-mesh, run-around strike net. Turtles are measured, weighed, and tagged with Inconel and passive integrated transponder tags. Tissue samples are collected for genetic and stable isotope analyses. A subset of Kemp's ridleys are held for 24-48 hours for fecal sample collection. Another subset of Kemp's ridleys receive electronic transmitters to investigate their movements, home range, and habitat associations. The permit expires on April 30, 2014.

The permit holder requests authorization to satellite tag a subset of Kemp's ridley and loggerhead turtles to determine their seasonal distribution and possible migrations in the waters of the southeastern Gulf.

File No. 14586 is requested under the authority of the Marine Mammal Protection Act of 1972, as amended (MMPA; 16 U.S.C. 1361 et. seq.), the regulations governing the taking and importing of marine mammals (50 CFR part 216), the Endangered Species Act of 1973, as amended (ESA; 16 U.S.C. 1531 et. seq.), and the regulations governing the taking, importing, and exporting of endangered and threatened species (50 CFR 222-226).

File No. 14586 would authorize researchers to conduct aerial and vessel surveys in the Straits of Florida off Florida's southeast coast. The goal of this project would be to collect baseline data regarding the abundance and distribution of marine mammals and sea turtles within the proposed study site. Since this study site is being considered as a testing site for ocean energy technology, researchers would assess the presence of animals before, during, and after the testing.

Abundance surveys could result in the harassment of sea turtles [leatherback (Dermochelys coriacea), loggerhead, green, hawksbill, and Kemp's ridley], as well as numerous cetacean species including fin whales (Balaenoptera physalus), sperm whales (Physeter macrocephalus), humpback whales (Megaptera novaengliae), and the North Atlantic right whale (Eubalaena glacialis). The permit would be valid for five years from the date of issuance.

Dated: February 25, 2010.
P. Michael Payne,
Chief, Permits, Conservation and Education Division, Office of Protected Resources, National Marine Fisheries Service.

[FR Doc. 2010-4407 Filed 3-2-10; 8:45 am]

BILLING CODE 3510-22-S